DEPARTMENT OF EDUCATION

34 CFR Chapter VI

Negotiated Rulemaking Committee, Negotiator Nominations and Schedule of Committee Meetings—Teacher Preparation and TEACH Grant Programs

AGENCY: Office of Postsecondary Education, Department of Education.

ACTION: Intent to establish negotiated rulemaking committees.

SUMMARY: We announce our intention to establish a negotiated rulemaking committee to prepare proposed regulations under Title II and Title IV of the Higher Education Act of 1965, as amended (HEA). The committee will include representatives of organizations or groups with interests that are significantly affected by the topics proposed for negotiation. We request nominations for individual negotiators who represent key stakeholder constituencies for the issues to be negotiated to serve on the committee and we set a schedule for committee meetings.

DATES: We must receive your nominations for negotiators to serve on the committee on or before November 25, 2011. The dates, times, and locations of the committee meetings are set out in the Schedule for Negotiations section under SUPPLEMENTARY INFORMATION, below.

ADDRESSES: Please send your nominations for negotiators to Wendy Macias, U.S. Department of Education, 1990 K Street, NW., room 8017, Washington, DC 20006, or by fax at (202) 502-7874. You may also e-mail your nominations to Wendy.Macias@ed.gov.

FOR FURTHER INFORMATION CONTACT: For information about the content of this notice, including information about the negotiated rulemaking process or the nomination submission process, contact: Wendy Macias, U.S. Department of Education, 1990 K Street, NW., room 8017, Washington, DC 20006. Telephone: (202) 502-7526. You may also e-mail your questions about the nomination submission process to: Wendy.Macias@ed.gov.

Note: For general information about the negotiated rulemaking process, see The Negotiated Rulemaking Process for Title IV Regulations, Frequently Asked Questions at http://www.ed.gov/policy/highered/reg/hearulemaking/hea08/neg-reg-faq.html.

If you use a telecommunications device for the deaf (TDD), call the Federal Relay Service (FRS), toll free at 1-800-877-8339.

SUPPLEMENTARY INFORMATION: On May 5, 2011, we published a notice in the Federal Register (76 FR 25650) announcing our intent to establish one or more negotiated rulemaking committees to develop proposed regulations under the HEA. In addition, we announced our intent to develop these proposed regulations by following the negotiated rulemaking procedures in Section 492 of the HEA.

The notice also announced a series of three regional hearings at which interested parties could comment on the topics suggested by the Department and suggest additional topics for consideration for action by the negotiating committees. We also held four public roundtable discussions to complement the regional hearings. The hearings and roundtables were held in: Nashville, Tennessee (roundtable only); Tacoma, Washington; Chicago, Illinois; and Charleston, South Carolina. We invited parties to comment and submit topics for consideration in writing as well. (Transcripts from the regional hearings can be found at http://www2.ed.gov/policy/highered/reg/hearulemaking/2011/hearings.html. Written comments may be viewed through the Federal eRulemaking Portal at http://www.regulations.gov. Instructions for finding comments are available on the site under “How to Use Regulations.gov” in the Help section. Individuals can enter docket ID ED-2011-OPE-0003 in the “Enter Keyword or ID” search box to locate the appropriate docket.) Regulatory Issues: After consideration of the information received at the regional hearings, in the roundtable discussions, and in writing, we have decided to establish a negotiating committee to address teacher preparation program issues in Title II of the HEA and in the Teacher Education Assistance for College and Higher Education (TEACH) Grant Program authorized by Title IV of the HEA.

We list the topics the committee is likely to address in the Committee Topics section, below.

We intend to select negotiators for the committee who represent the interests significantly affected by the topics proposed for negotiations. In so doing, we will follow the requirement in Section 492(b)(1) of the HEA that the individuals selected must have demonstrated expertise or experience in the relevant subjects under negotiation. We will also select individual negotiators who reflect the diversity among program participants, in accordance with Section 492(b)(1) of the HEA. Our goal is to establish a committee that will allow significantly affected parties to be represented while keeping the committee size manageable.

The committee may create subgroups on particular topics that may involve additional individuals who are not members of the committee. Individuals who are not selected as members of the committee will be able to attend the meetings, have access to the individuals representing their constituencies, and participate in informal working groups on various issues between the meetings. The committee meetings will be open to the public.

The Department has identified the following constituencies as having interests that are significantly affected by the topics proposed for negotiations. The Department plans to seat as negotiators individuals from organizations or groups representing these constituencies:

• Postsecondary students, including legal assistance organizations that represent students.

• Teachers.

• Financial aid administrators at postsecondary institutions.

• Business officers and bursars at postsecondary institutions.

• Admissions officers at postsecondary institutions.

• State officials, including officials with teacher preparation program approval agencies, State teacher licensing boards, higher education executive officers, chief State school officers, State attorneys general, and State data system administrators.

• Institutions that offer teacher preparation programs, including schools of education.

○ Institutions of higher education eligible to receive Federal assistance under Title III, Parts A, B, and F, and Title V of the HEA, which include Historically Black Colleges and Universities, Hispanic-Serving Institutions, American Indian Tribally Controlled Colleges and Universities, Alaska Native and Native Hawaiian-Serving Institutions, Predominantly Black Institutions, and other institutions with a substantial enrollment of needy students as defined in Title III of the HEA.

○ Two-year public institutions of higher education.

○ Four-year public institutions of higher education.

○ Private, non-profit institutions of higher education.

○ Private, for-profit institutions of higher education.

• Operators of programs for alternative routes to teacher certification.

• Accrediting agencies.

• Students enrolled in elementary and secondary education, including parents of students enrolled in elementary and secondary education.

• School and local educational agency officials, including those responsible for hiring teachers and evaluating teacher performance.

The goal of the committee is to develop high-quality proposed regulations that reflect a final consensus of the committee. Consensus means that there is no dissent by any member of the negotiating committee, including the committee member representing the Department. An individual selected as a negotiator will be expected to represent the interests of their organization or group. If consensus is reached, all members of the organization or group represented by a negotiator are bound by the consensus and are prohibited from commenting negatively on the resulting proposed regulations. The Department will not consider any such negative comments that are submitted by members of such an organization or group.

Nominations

Nominations should include:

• The name of the nominee, the organization or group the nominee represents, and a description of the interests that the nominee represents.

• Evidence of the nominee's expertise or experience in the subject, or subjects, to be negotiated.

• Evidence of support from individuals or groups of the constituency that the nominee will represent.

• The nominee's commitment that he or she will actively participate in good faith in the development of the proposed regulations.

• The nominee's contact information, including address, phone number, fax number, and e-mail address.

For a better understanding of the negotiated rulemaking process, nominees should review The Negotiated Rulemaking Process for Title IV Regulations, Frequently Asked Questions at http://www.ed.gov/policy/highered/reg/hearulemaking/hea08/neg-reg-faq.html prior to committing to serve as a negotiator.

Nominees will be notified whether or not they have been selected as negotiators as soon as the Department's review process is completed.

Committee Topics

The topics the committee is likely to address are as follows:

• The requirements for institutional and program report cards on the quality of teacher preparation (Section 205(a) of the HEA);

• The requirements for State report cards on the quality of teacher preparation (Section 205(b) of the HEA);

• The standards to ensure reliability, validity, and accuracy of the data submitted in report cards on the quality of teacher preparation (Section 205(c) of the HEA);

• The criteria used by States to assess the performance of teacher preparation programs at higher education institutions in the State, the identification of low-performing programs (Section 207(a) of the HEA), and the consequences of a State's termination of eligibility of a program (Section 207(b) of the HEA);

• The definition of the term “high quality teacher preparation program” for the purpose of establishing the eligibility of an institution to participate in the TEACH Grant program (Section 420L(1) of the HEA);

• The definition of the term “high quality professional development services” for the purpose of establishing the eligibility of an institution to participate in the TEACH Grant program (Section 420L(1) of the HEA); and

• The service and repayment obligations for the TEACH Grant Program (Subpart E of 34 CFR 686).

These topics are tentative. Topics may be added or removed as the process continues.

Schedule for Negotiations

The committee will meet for three sessions on the following dates:

Session 1: January 18-20, 2012.

Session 2: February 27-29, 2012.

Session 3: April 3-5, 2012.

The first and second day of each session will begin at 9 a.m. and end around 5 p.m. The final day of each session will begin at 9 a.m. and end at 12 p.m.

The meetings will be held at the U.S. Department of Education at: 1990 K Street, NW., Eighth Floor Conference Center, Washington, DC 20006.

Accessible Format: Individuals with disabilities can obtain this document in an accessible format (e.g., braille, large print, audiotape, or compact disc) by contacting the contact person under FOR FURTHER INFORMATION CONTACT.

Electronic Access to This Document: The official version of this document is the document published in the Federal Register. Free internet access to the official edition of the Federal Register and the Code of Federal Regulations is available via the Federal Digital System at: http://www.gpo.gov/fdsys. At this site you can view this document, as well as all other documents of this Department published in the Federal Register, in text or Adobe Portable Document Format (PDF). To use PDF, you must have Adobe Acrobat Reader, which is available free at this site.

You may also access documents of the Department published in the Federal Register by using the article search feature at http://www.federalregister.gov. Specifically, through the advanced search feature at this site, you can limit your search to documents published by the Department.

Program Authority: 20 U.S.C. 1021 et seq., 1070g et seq., 1098a.

Dated: October 21, 2011.
Eduardo M. Ochoa,
Assistant Secretary for Postsecondary Education.

[FR Doc. 2011-27719 Filed 10-25-11; 8:45 am]

BILLING CODE 4000-01-P